DEPARTMENT OF COMMERCE

International Trade Administration

[A-570-979, C-570-980]

Crystalline Silicon Photovoltaic Cells, Whether or Not Assembled Into Modules, From the People's Republic of China: Final Results of Changed Circumstances Reviews, and Revocation of Antidumping and Countervailing Duty Orders, in Part

AGENCY: Enforcement and Compliance, International Trade Administration, Department of Commerce.

SUMMARY: On December 26, 2017, the Department of Commerce (Commerce) published its preliminary results of changed circumstances reviews (CCRs) and intent to revoke, in part, the antidumping duty (AD) and countervailing duty (CVD) orders on crystalline silicon photovoltaic cells, whether or not assembled into modules, from the People's Republic of China (China) with respect to certain solar panels (collectively, the Orders). Specifically, Commerce preliminarily determined that the producers accounting for substantially all of the production of the domestic like product to which the Orders pertain lacked interest in the relief provided by the Orders with respect to certain solar panels of a sufficiently small size, voltage, amperage, and wattage, among other characteristics, as described below. Commerce invited interested parties to comment on the preliminary results. No party submitted comments. For the final results of these CCRs, Commerce is revoking, in part, the Orders as to imports of certain solar panels as described below.

DATES: Applicable January 18, 2018.

FOR FURTHER INFORMATION CONTACT: Lauren Caserta or Kaitlin Wojnar, AD/CVD Operations, Office VII, Enforcement and Compliance, International Trade Administration, U.S. Department of Commerce, 1401 Constitution Avenue NW, Washington, DC 20230; telephone: (202) 482-4737 and (202) 482-3857, respectively.

SUPPLEMENTARY INFORMATION:

Background

On December 7, 2012, Commerce published AD and CVD orders on certain crystalline silicon photovoltaic cells, whether or not assembled into modules, from China.¹ On October 6, 2017, Pitsco, Inc. d/b/a/Pitsco Education (Pitsco), an importer of the subject merchandise, requested through a changed circumstances review revocation, in part, of the Orders pursuant to section 751(b)(1) of the Tariff Act of 1930, as amended (the Act) and 19 CFR 351.216(b), with respect to certain solar panels.² On October 13, 2017, SolarWorld Americas, Inc. (the petitioner) submitted a letter stating that it does not oppose the scope exclusion language proposed by Pitsco.³ From October 25, 2017, through November 8, 2017,⁴ Commerce consulted with both Pitsco and SolarWorld regarding revisions to the proposed exclusion language; specifically, Commerce suggested limiting the language to a description of the physical characteristics of the product and also expressed concerns regarding the dimensions indicated in the description.⁵ Accordingly, on November 10, 2017, Pitsco submitted revised exclusion language based on these consultations.⁶ On November 13, 2017, SolarWorld submitted a letter stating that it does not oppose the revised exclusion language submitted by Pitsco on November 10, 2017.⁷

¹ See Crystalline Silicon Photovoltaic Cells, Whether or Not Assembled into Modules, from the People's Republic of China: Amended Final Determination of Sales at Less Than Fair Value, and Antidumping Duty Order, 77 FR 73018 (December 7, 2012) and Crystalline Silicon Photovoltaic Cells, Whether or Not Assembled into Modules, from the People's Republic of China: Countervailing Duty Order, 77 FR 73017 (December 7, 2012).

² See Pitsco's Letter, “Request for Changed Circumstances Review (A-570-980; C-570-979),” dated October 6, 2017 (Pitsco's Request).

³ See SolarWorld's Letter, “Pitsco, Inc.'s Scope Exclusion Language—Letter of No Opposition,” dated October 13, 2017 (Letter of No Opposition).

⁴ See Memorandum, “Pitsco, Inc. Changed Circumstances Review for Antidumping and Countervailing Duty Orders on Certain Solar Cells from the People's Republic of China: Ex Parte Correspondence,” dated November 13, 2017 (Ex Parte Memo).

⁵ Id.

⁶ See Pitsco's Letter, “Amended Changed Circumstances Review (A-570-980; C-570-979),” dated November 10, 2017 (Pitsco's Amended Request).

⁷ See SolarWorld's Letter, “Pitsco, Inc.'s Scope Exclusion Language—Letter of No Opposition,” dated November 13, 2017 (Revised Letter of No Opposition).

On November 27, 2017, Commerce published the notice of initiation of the requested changed circumstances reviews.⁸ On December 26, 2017, Commerce published the preliminary results of these CCRs, in which it found that producers accounting for substantially all of the production of the domestic like product to which the Orders pertain lack interest in the relief afforded by the Orders with respect to certain solar panels of a sufficiently small size, voltage, amperage, and wattage, among other characteristics, as described in Pitsco's request.⁹ Commerce invited interested parties to submit comments on the preliminary results. We received no comments.

⁸ See Crystalline Silicon Photovoltaic Cells, Whether or Not Assembled into Modules, from the People's Republic of China: Notice of Initiation of Changed Circumstances Reviews, and Consideration of Revocation of the Antidumping and Countervailing Duty Orders in Part, 82 FR 55987 (Nov. 27, 2017) (Solar CCR Initiation Notice).

⁹ See Crystalline Silicon Photovoltaic Cells, Whether or Not Assembled into Modules, from the People's Republic of China: Preliminary Results of Changed Circumstances Reviews, and Intent to Revoke Antidumping and Countervailing Duty Orders in Part, 82 FR 60952 (December 26, 2017) (Solar CCR Preliminary Notice).

Final Results of Changed Circumstances Reviews, and Revocation of the Orders, in Part

Because no party submitted comments opposing Commerce's preliminary results, and the record contains no other information or evidence that calls into question the preliminary results, Commerce determines, pursuant to section 751(d)(1) of the Act, section 782(h) of the Act, and 19 CFR 351.222(g), that there are changed circumstances that warrant revocation of the Orders, in part. Specifically, because the producers accounting for substantially all of the production of the domestic like product to which the Orders pertain lack interest in the relief provided by the Orders with respect to the following type of solar panels, we are revoking the Orders, in part, for solar panels that: (1) Have a surface area from 3,450 mm² to 33,782 mm²; (2) have one black wire and one red wire (each of type 22 AWG or 24 AWG not more than 206 mm in length when measured from panel extrusion); (3) do not exceed 2.9 volts, 1.1 amps, and 3.19 watts; and (4) do not contain an internal battery or external computer peripheral ports. The scope description below includes this exclusion language.

Scope of the AD and CVD Orders on Certain Crystalline Silicon Photovoltaic Cells, Whether or Not Assembled Into Modules, From the People's Republic of China

The merchandise covered by the Orders is crystalline silicon photovoltaic cells, and modules, laminates, and panels, consisting of crystalline silicon photovoltaic cells, whether or not partially or fully assembled into other products, including, but not limited to, modules, laminates, panels and building integrated materials.

The Orders cover crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the Orders.

Excluded from the scope of the Orders are thin film photovoltaic products produced from amorphous silicon (a-Si), cadmium telluride (CdTe), or copper indium gallium selenide (CIGS).

Also excluded from the scope of the Orders are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of these Orders are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Modules, laminates, and panels produced in a third-country from cells produced in China are covered by the Orders; however, modules, laminates, and panels produced in China from cells produced in a third-country are not covered by the Orders.

Merchandise covered by these Orders is currently classified in the Harmonized Tariff System of the United States (HTSUS) under subheadings 8501.61.0000, 8507.20.80, 8541.40.6020, 8541.40.6030, and 8501.31.8000. These HTSUS subheadings are provided for convenience and customs purposes; the written description of the scope of the Orders is dispositive.

Instructions to U.S. Customs and Border Protection

Because we determine that there are changed circumstances that warrant the revocation of the Orders, in part, we will instruct U.S. Customs and Border Protection (CBP) to liquidate without regard to antidumping and countervailing duties, and to refund any estimated antidumping and countervailing duties, on all unliquidated entries of the merchandise covered by this partial revocation that are not covered by the final results of an administrative review or automatic liquidation.¹⁰

¹⁰ The most recently completed administrative review of the AD order (A-570-979) was completed on June 20, 2017, and covered December 1, 2014, through November 30, 2015. Therefore, the partial revocation for merchandise subject to the AD orders will be applied retroactively to unliquidated entries of merchandise entered or withdrawn from warehouse, for consumption, on or after December 1, 2015. The most recently completed administrative review of the CVD order (C-570-980) was completed on July 10, 2017, and covered January 1, 2014, through December 31, 2014. Therefore, the partial revocation for merchandise subject to the CVD order will be applied retroactively to unliquidated entries of merchandise entered or withdrawn from warehouse, for consumption, on or after January 1, 2015.

Notification to Interested Parties

This notice serves as a reminder to parties subject to an administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these final results and revocation, in part, and notice in accordance with sections 751(b) and 777(i) of the Act and 19 CFR 351.216, 19 CFR 351.221(c)(3), and 19 CFR 351.222.

Dated: January 11, 2018.
Gary Taverman,
Deputy Assistant Secretary for Antidumping and Countervailing Duty Operations, performing the non-exclusive functions and duties of the Assistant Secretary for Enforcement and Compliance.

[FR Doc. 2018-00756 Filed 1-17-18; 8:45 am]

BILLING CODE 3510-DS-P